NUCLEAR REGULATORY COMMISSION

[NRC-2023-0094]

Information Collection: Solicitation of Non-Power Operator Licensing Examination Data

Correction

In notice document 2023-28880 appearing on page 488 in the issue of Thursday, January 4, 2024, make the following correction:

On page 488 in the first column, after the DATES heading, in the first and second lines, “January 4, 2024” should read “February 5, 2024”.

[FR Doc. C1-2023-28880 Filed 1-5-24; 8:45 am]

BILLING CODE 0099-10-P